DEPARTMENT OF THE INTERIOR

Office of the Secretary

Intent To Reestablish the Joint Fire Science Program Stakeholder Advisory Group Charter and Call for Non-Federal Nominations

AGENCY: Office of the Assistant Secretary for Policy Management and Budget, Interior.

ACTION: Notice and call for nominations.

SUMMARY: The Secretary of the Interior and the Secretary of Agriculture intend to reestablish the Charter for the Joint Fire Science Program Stakeholder Advisory Group. This notice solicits nominations for new members for the Group. The Group advises the Secretaries through the Governing Board of the Joint Fire Science Program concerning research priorities on fuels issues, emergency stabilization and rehabilitation practices, restoration of fire-adapted ecosystems, and fire management procedures on lands administered by Interior and Agriculture. The Joint Fire Science Program provides scientific information and tools to support the wildland fire management program.

DATES: Nominations should be submitted to the address listed below no later than August 15, 2003.

ADDRESSES: Submit all nominations to Dr. Bob Clark, Joint Fire Science Program Manager, National Interagency Fire Center, 3833 S. Development Ave., Boise, Idaho 83705.

FOR FURTHER INFORMATION CONTACT: Dr. Bob Clark, Joint Fire Science Program Manager, National Interagency Fire Center, 3833 S. Development Ave., Boise, Idaho 83705, (208) 387-5349. Internet: Bob_Clark@nifc.blm.gov.

SUPPLEMENTARY INFORMATION: The Joint Fire Science Program was established in 1998 to provide scientific information and tools in support of the wildland fire management program. Since its inauguration the Program has funded 178 projects. The results of completed projects are made available to field offices to provide guidance for wildland fire management, and fuels treatment and rehabilitation project planning. All program projects require scientist-manager partnerships along with a strong emphasis on technology transfer.

The Stakeholder Advisory Group will consist of not more than 15 members, 5 Federal and 10 nonfederal. This call for nominations will establish the nonfederal membership on the Group. Group membership will be balanced in terms of categories of interest and geographic regions represented. Any individual or organization may nominate one or more persons to serve on the Joint Fire Science Program Stakeholder Advisory Group. Individuals may also nominate themselves for Group membership.

All nomination letters should include the name, address, profession, relevant biographic data, and reference sources for each nominee, and should be sent to the address in the ADDRESSES section. Letters of support should be from interests or groups that nominees claim to represent. This material will be used to evaluate nominees' expertise and qualifications for advising the Secretaries on matters pertaining to research into wildland fuels problems, implementation of strategies and solutions for managing increasing fuel loadings, and post fire rehabilitation on federally administered wildlands. Nominations may be made for the following categories of interest:

Wildland fire suppression and operations

Prescribed fire management

Air quality and smoke management

Burned area emergency stabilization and rehabilitation

Fire ecology and ecosystem restoration

Forest and woodland management

Rangeland management

Wildlife Management

Soil and water management

Conservation

Social science and economics

Modeling and remote sensing

Tribal government

State or local agencies

Public at large

Each Stakeholder Advisory Group Member will be appointed to serve a 2-year term. Terms will be staggered to maintain continuity on the Group. Initially, appointment terms for half of the non-federal members will be for three years. At the end of the member's term, the member may continue to serve at the discretion of the Secretary of the Interior and Secretary of Agriculture for an interim period, which will not exceed 120 days, in order to ensure continuity on the Stakeholder Advisory Group.

Members will serve without salary, but non-federal members will be reimbursed for travel and per diem expenses at current rates for Government employees. The Group will meet at least twice annually. Additional meetings may be called in connection with special needs for advice. The Department of the Interior's Director, Office of Wildland Fire Coordination will be the Designated Federal Officer who will call meetings of the Group. This notice is published in accordance with Section 9 (a)(2) of the Federal Advisory Committee Act (FACA) of 1972 (5 U.S.C. App.).

Dated: July 8, 2003.
P. Lynn Scarlett,
Assistant Secretary—Policy, Management and Budget, Department of the Interior.

[FR Doc. 03-17940 Filed 7-15-03; 8:45 am]

BILLING CODE 4310-J4-P